ENVIRONMENTAL PROTECTION AGENCY

[EPA-HQ-OAR-2004-0501; FRL-9612-2]

Agency Information Collection Activities; Proposed Collection; Comment Request; Reporting Requirements Under EPA's Green Power Partnership and Combined Heat and Power (CHP) Partnership, EPA ICR Number 2173.02 (Renewal)

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on June 30, 2012. Before submitting the ICR to OMB for review and approval, EPA is soliciting comments on specific aspects of the proposed information collection as described below.

DATES: Comments must be submitted on or before February 27, 2012.

ADDRESSES: Submit your comments, identified by Docket ID No. EPA-HQ-OAR-2004-0501 by one of the following methods:

• www.regulations.gov: Follow the on-line instructions for submitting comments.

• Email: a-and-r-docket@epamail.epa.gov.

• Fax: (202) 566-9744.

• Mail: EPA Docket Center, Environmental Protection Agency, Air and Radiation Docket, Mailcode: 28221T, 1200 Pennsylvania Ave. NW., Washington, DC 20460

• Hand Delivery: EPA Docket Center—Public Reading Room, EPA West Building, Room 3334, 1301 Constitution Avenue NW., Washington, DC 20004. Such deliveries are accepted only during the Docket's normal hours of operation, and special arrangements should be made for deliveries of boxed information.

Instructions: Direct your comments to Docket ID No. EPA-HQ-OAR-2004-0501. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be captured automatically and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Mollie Lemon, Climate Protection Partnerships Division, Office of Atmospheric Programs, MC 6202J, Environmental Protection Agency, 1200 Pennsylvania Ave., NW., Washington, DC 20460; telephone number: (202) 343-9859; fax number: (202) 343-2208; email address: lemon.mollie@epa.gov.

SUPPLEMENTARY INFORMATION:

How can I access the docket and/or submit comments?

EPA has established a public docket for this ICR under Docket ID No. EPA-HQ-OAR-2004-0501, which is available for online viewing at www.regulations.gov, or in person viewing at the Air and Radiation Docket in the EPA Docket Center (EPA/DC), EPA West, Room 3334, 1301 Constitution Ave. NW., Washington, DC, 20004. The EPA/DC Public Reading Room is open from 8:30 a.m. to 4:30 p.m., Monday through Friday, excluding legal holidays. The telephone number for the Reading Room is (202) 566-1744, and the telephone number for the Air and Radiation Docket is (202) 566-1742.

Use www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ fewer than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

To what information collection activity or ICR does this apply?

Docket ID No. EPA-HQ-OAR-2004-0501

Affected entities: Entities potentially affected by this action are company, institutional, and public sector organizations that voluntarily participate in the EPA's Green Power Partnership (GPP) or Combined Heat and Power Partnership (CHPP). These include service and goods providing industries, educational institutions and non-governmental organizations, commercial and industrial organizations, and local, state, or federal level government agencies.

Title: Reporting requirements Under EPA's Green Power Partnership and Combined Heat and Power (CHP) Partnership.

ICR numbers: EPA ICR No. 2173.02, OMB Control No. 2060-0532.

ICR status: This ICR is currently scheduled to expire on June 30, 2012. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In 2001, EPA launched two new partnership programs with industry and other stakeholders: the Green Power Partnership (GPP) and the Combined Heat and Power Partnership (CHPP). These voluntary partnership programs encourage organizations to invest in clean, efficient energy technologies, including renewable energy and combined heat and power. To continue to be successful, it is critical that EPA collect information from GPP and CHPP Partners to ensure these organizations are meeting their renewable energy and CHP goals and to assure the credibility of these voluntary partnership programs.

EPA has developed this ICR to obtain authorization to collect information from organizations participating in the GPP and CHPP. Organizations that join these programs voluntarily agree to the following respective actions: (1) Designating a Green Power or CHP liaison and filling out a Partnership Agreement or Letter of Intent (LOI) respectively, (2) for the GPP, reporting to EPA, on an annual basis, their progress toward their green power commitment via a 3-page reporting form; (3) for the CHP Partnership, reporting to EPA information on their existing CHP projects, new project development, and other CHP-related activities via a one-page reporting form (for projects) or via an informal email or phone call (for other CHP-related activities). EPA uses the data obtained from its Partners to assess the success of these programs in achieving their national energy and greenhouse gas (GHG) reduction goals. Partners are organizational entities that have volunteered to participate in either Partnership program.

Burden Statement: Please note that the following burden hour and labor rates may change in the final ICR, pending the application of survey results of Partners. The annual public reporting and recordkeeping burden for this collection of information is estimated to equal 10,407 hours for submission and processing and to average 4.79 hours per year per respondent. The average number of annual burden hours on first-year Partners for each type of one-time response is: 4.4 hours for a Partnership Agreement (a one-time burden for GPP Partners) and 2.5 hours for a Letter of Intent (a one-time burden for CHPP Partners). Annual burden hours on existing Partners for yearly reports are estimated at 2.6 hours for the Partner Yearly Report for the GPP and 3.5 hours for the Partner Yearly Report for the CHPP.

Partners from both programs may also submit voluntary updates of simple information, such as contact information or company profiles, via the EPA Web site. These updates would take from 15 minutes to 0.5 hours each. A subset of Partners may participate in brief (i.e., 15 minute) telephone calls with EPA to clarify questions pertaining to the Partnership Agreement or LOI, GPP Yearly Report or CHPP Partner project reporting. All of these activities are included in the annual burden estimate.

The estimated number of annual respondents averaged over three (3) years is 2,174 which include an average of 1,660 for the GPP and 514 respondents for the CHPP.

There are no capital or start-up costs associated with this information collection. The average annual operation and maintenance cost resulting for this collection of information is $3 per respondent. The average annual labor cost is $152.09 per respondent, pending the application of survey results of Partners. The resulting total annual cost for Partners averaged over the three year period is $337,166. In the previous ICR the total cost averaged over the 3-year period was $521,937. The total cost estimate decrease for Partners is due to a corrected downward adjustment in the labor rates used to calculate respondent burden, partially offset by an increase in the number of Partners.

Burden means the total time, effort, or financial resources expended by persons to generate, maintain, retain, disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated Number of Respondents: 2,174.

Frequency of Response: Annually, on Occasion, One time.

Estimated Total Annual Hour Burden: 10,407.

Estimated Total Annual Cost (including Partner, EPA, and contractor costs): $473,979, which includes $0 annualized Capital Startup costs, $6,522 annualized Operating and Maintenance (O&M) costs and $467,457 annualized Labor costs.

Are there changes in the estimates from the last approval?

Since the last ICR renewal, both the GPP and CHPP have introduced program efficiencies to reduce program burden by encouraging the electronic submission of documents directly to the program support contractors. The average number of hours per Partner remained the same, at 3.24 hours, pending a partner survey to determine the results of these efficiencies. The total hourly burden increased due to an increase in the number of Partners. For perspective on the magnitude of partner growth, the number of Partners at the end of 2008 was 1,286, whereas by the end of 2011 there will be an estimated 1,725. The total cost estimate over the 3-year period for this renewal ICR is $1,421,937, or an average of $473,979 per year, of which $6,522 is O&M costs. The total cost to GPP and CHPP Partners is $1,011,498 ($19,566 is O&M), or $337,166 ($6,522 is O&M) per year. In the previous 2008 ICR renewal, the total cost over the 3-year period was $1,991,978. The total cost estimate decrease for Partners is due to a corrected downward adjustment in the labor rates for respondents, partially offset by an increase in the number of Partners.

What is the next step in the process for this ICR?

EPA will consider the comments received and amend the ICR as appropriate. The final ICR package then will be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: December 21, 2011.
Elizabeth Craig,
Director, Climate Protection Partnerships Division.

[FR Doc. 2011-33262 Filed 12-27-11; 8:45 am]

BILLING CODE 6560-50-P